DEPARTMENT OF JUSTICE

Antitrust Division

Notice Pursuant to the National Cooperative Research and Production Act of 1993—Portland Cement Association

Notice is hereby given that, on January 30, 2002, pursuant to section 6(a) of the National Cooperative Research and Production Act of 1993, 15 U.S.C. 4301 et seq. (“the Act”), Portland Cement Association (“PCA”) has filed written notifications simultaneously with the Attorney General and the Federal Trade Commission disclosing changes in its membership status. The notifications were filed for the purpose of extending the Act's provisions limiting the recovery of antitrust plaintiffs to actual damages under specified circumstances. Specifically, Holnam Inc., Dundee, MI has changed its name to Holcim (US) Inc.; CP Recycling & Affiliated Co., Muskegon, MI has changed its name to Chryso, Inc.; and Westvaco Corporation, Charleston Heights, SC has resigned as an Associate Member.

No other changes have been made in either the membership or planned activity of the group research project. Membership in this group research project remains open, and PCA intends to file additional written notification disclosing all changes in membership.

On January 7, 1985 PCA filed its original notification pursuant to section 6(a) of the Act. The Department of Justice published a notice in the Federal Register pursuant to section 6(b) of the Act on February 5, 1985 (50 FR 5015).

The last notification was filed with the Department on October 16, 2001. A notice was published in the Federal Register pursuant to section 6(b) of the Act on December 5, 2001 (66 FR 63260).

Constance K. Robinson,
Director of Operations Antitrust Division.

[FR Doc. 02-5536 Filed 3-7-02; 8:45 am]

BILLING CODE 4410-11-M